DEPARTMENT OF THE INTERIOR

National Park Service

[NPS-WASO-NRNHL-DTS#-27818; PPWOCRADI0, PCU00RP14.R50000]

National Register of Historic Places; Notification of Pending Nominations and Related Actions

AGENCY: National Park Service, Interior.

ACTION: Notice.

SUMMARY: The National Park Service is soliciting comments on the significance of properties nominated before April 27, 2019, for listing or related actions in the National Register of Historic Places.

DATES: Comments should be submitted by May 24, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before April 27, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

IOWA

Cedar County

Downey School, 212 Broadway St., Downey, SG100004017

MISSOURI

Nodaway County

Fields, John and Fannie, House, 227 McKenzie St., Barnard, SG100004018

MONTANA

Silver Bow County

Silver Bow Airway Beacon (Sentinels of the Airways: Montana's Airway Beacon System, 1934-1979 MPS), Address Restricted, Ramsay, MP100004023

NEW YORK

Erie County

Buffalo Public School No. 51 (Black Rock Planning Neighborhood MPS), 101 Hertel Ave., Buffalo, MP100004010

Seneca Plumbing and Heating Company Building, 192 Seneca St., Buffalo, SG100004011

Niagara County

First Presbyterian Church of Lewiston and Lewiston Village Cemetery, 505 Cayuga St., Outerlot 17 Cayuga & Outerlot 18 Seneca, Lewiston, SG100004012

PENNSYLVANIA

Allegheny County

Lawrenceville Historic District, Roughly bounded by 33rd St, Allegheny R, 55th St., Allegheny Cemetery, Penn Ave., 40th St., Liberty Ave., and Sassafras St., Pittsburgh City, SG100004020

Miller, Andrew S. and Elizabeth, House, 366 Lincoln Ave., Bellevue, SG100004021

TEXAS

Cameron County

Central Brownsville Historic District, Roughly bounded by E. Levee, E. 10th, E. Monroe, E. 14th & E. 15th Sts. & 2 blk. Extension along 800 & 900 blks. of E. Elizabeth St., Brownsville, SG100004008

Uvalde County

Uvalde Downtown Historic District, Centered around jct. of US 90 & US 83, roughly bounded by School Ln., Hornby Pl., 2nd Alley & High St., Uvalde, SG100004009

WISCONSIN

Door County

ADVANCE shipwreck (Barge), (Great Lakes Shipwreck Sites of Wisconsin MPS), 0.1 mi. E. of Sand Bay Peninsula, Sand Bay, Nasewaupee vicinity, MP100004024

Sauk County

Nisham, Freda Meyers, Memorial Chapel, 1000 Myrtle St., Reedsburg, SG100004016

A request for removal has been made for the following resource:

IOWA

Benton County

Round Barn, Bruce Township Section 6 (Iowa Round Barns: The Sixty Year Experiment TR), W of US 218, La Porte vicinity, OT86001416

Additional documentation has been received for the following resources:

ARKANSAS

Benton County

Gypsy Camp Historic District (Benton County MRA), Off AR 59, Siloam Springs vicinity, AD87002425

NORTH CAROLINA

Wake County

Hayes Barton Historic District (Five Points Neighborhoods, Raleigh, North Carolina MPS), Roughly bounded by St. Mary's St., Fairview Rd., Aycock St., Scales St. and Williamson Dr., Raleigh, AD02000496

Authority: Section 60.13 of 36 CFR part 60.

Dated: April 30, 2019.
Kathryn G. Smith,
Acting Chief, National Register of Historic Places/National Historic Landmarks Program.

[FR Doc. 2019-09539 Filed 5-8-19; 8:45 am]

BILLING CODE 4312-52-P